NATIONAL SCIENCE FOUNDATION

Accelerating the Big Data Innovation Ecosystem; Notice and Request for Comment

AGENCY: National Science Foundation.

ACTION: Notice and request for comments on accelerating the Big Data innovation ecosystem.

FOR FURTHER INFORMATION CONTACT: Fen Zhao at 703-292-7344 or fzhao@nsf.gov. Individuals who use a telecommunications device for the deaf (TDD) may call the Federal Information Relay Service (FIRS) at 1-800-877-8339, which is accessible 24 hours a day, 7 days a week, 365 days a year (including Federal holidays).

DATES: Please submit responses no later than November 1, 2014. Comments may be sent to BIGDATA@nsf.gov, following the guidance set below.

SUMMARY: NSF seeks input from stakeholders across academia, state and local government, industry, non-profits, and others across all parts of the Big Data innovation ecosystem on the formation of new Big Data Regional Innovation Hubs.

SUPPLEMENTARY INFORMATION:

Overview: The National Science Foundation is exploring the establishment of a national network of “Big Data Regional Innovation Hubs.” These Hubs will help to continue and scale up the kinds of activities and partnerships established by National Big Data R&D Initiative over the past 3 years as well as stimulate, track, and help sustain new regional and grassroots partnerships around Big Data. Potential roles for Hubs include, but are not limited to:

• Accelerate the ideation and development Big Data solutions to specific global and societal challenges by convening stakeholders across sectors to partner in results-driven programs and projects.

• Act as a matchmaker between the various academic, industry, and community stakeholders to help drive successful pilot programs for emerging Big Data technology.

• Coordinate across multiple regions of the country, based on shared interests and industry sector engagement to enable dialogue and share best practices.

• Aim to increase the speed and volume of technology transfer between universities, public and private research centers and laboratories, large enterprises, and SMB's.

• Facilitate engagement with opinion and thought leaders on the societal impact of Big Data technologies as to maximize positive outcomes of adoption while reducing unwanted consequences.

• Support the education and training of the entire Big Data workforce, from data scientists to managers to data end-users.

NSF seeks input from stakeholders across academia, state and local government, industry, and non-profits across all parts of the Big Data innovation ecosystem on the formation of Big Data Regional Innovation Hubs. Please submit a response of no more than two-pages to BIGDATA@nsf.gov outlining:

1. The goals of interest for a Big Data Regional Hub, with metrics for evaluating the success or failure of the Hub to meet that goal;

2. The multiple stakeholders that would participate in the Hub and their respective roles and responsibilities;

3. Plans for initial and long-term financial and in-kind resources that the stakeholders would need to commit to this hub; and

4. A principal point of contact.

This announcement is posted solely for information and planning purposes; it does not constitute a formal solicitation for grants, contracts, or cooperative agreements.

Background: Aiming to make the most of the fast-growing volume of digital data, in March 2012, the Obama Administration announced the “Big Data Research and Development Initiative.” By improving our ability to extract knowledge and insights from large and complex collections of digital data, the initiative promises to help solve some the Nation's most pressing challenges. Beginning in the second year of the National Big Data Initiative, the Administration encouraged multiple stakeholders including federal agencies, private industry, academia, state and local government, non-profits, and foundations, to develop and participate in Big Data innovation projects across the country.

On November 12, 2013, dozens of public and private organizations met at a White House-sponsored “Data to Knowledge to Action” event to announce an inspiring array of Big Data related collaborations. These collaborations were the product and culmination of over a year of activities catalyzed by teams at OSTP, NITRD and Federal agencies to support the Big Data innovation ecosystem; such activities included workshops, one-on-one conversations with potential partners, Requests for Information, invited speaker lectures, and more. To sustain the forward momentum of the Data2Action event, The National Science Foundation is exploring the establishment of a national network of “Big Data Regional Innovation Hubs.”

Submitted by the National Science Foundation August 27, 2014.
Suzanne H. Plimpton,
Reports Clearance Officer, National Science Foundation.

[FR Doc. 2014-20806 Filed 9-2-14; 8:45 am]

BILLING CODE 7555-01-P